DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of February 8, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Maricopa County, Arizona and Incorporated Areas
Docket No.: FEMA-B-1864 and FEMA-B-2296
City of Avondale | City Hall, 11465 West Civic Center Drive, Development and Engineering Services Department, Suite 120, Avondale, AZ 85323.
City of Buckeye | City Hall, 530 East Monroe Avenue, Buckeye, AZ 85326.
City of Goodyear | Development Center, 1900 North Civic Square, Goodyear, AZ 85395.
City of Phoenix | Street Transportation Department, 200 West Washington Street, 5th Floor, Phoenix, AZ 85003.
Town of Gila Bend | Town Hall, 644 West Pima Street, Gila Bend, AZ 85337.
Unincorporated Areas of Maricopa County | Flood Control District of Maricopa County, 2801 West Durango Street, Phoenix, AZ 85009.
Yavapai County, Arizona and Incorporated Areas
Docket No.: FEMA-B-2156 and B-2260
City of Cottonwood | Public Works, 1490 West Mingus Avenue, Cottonwood, AZ 86326.
City of Sedona | Community Development Department, 102 Roadrunner Drive, Sedona, AZ 86336.
Town of Camp Verde | Town Hall, 473 South Main Street, Room 108, Camp Verde, AZ 86322.
Unincorporated Areas of Yavapai County | Yavapai County Flood Control District, 1120 Commerce Drive, Prescott, AZ 86305.
Collier County, Florida and Incorporated Areas
Docket No.: FEMA-B-2074
City of Everglades City | City Hall, 102 Copeland Avenue North, Everglades City, FL 34139.
City of Marco Island | Growth Management Department, 50 Bald Eagle Drive, Marco Island, FL 34145.
City of Naples | Building Department, 295 Riverside Circle, Naples, FL 34102.
Unincorporated Areas of Collier County | Collier County Growth Management Department, 2800 North Horseshoe Drive, Naples, FL 34104.
Grafton County, New Hampshire (All Jurisdictions)
Docket No.: FEMA-B-2262
Town of Alexandria | Town Office, 47 Washburn Road, Alexandria, NH 03222.
Town of Ashland | Town Office, 20 Highland Street, Ashland, NH 03217.
Town of Benton | Town Hall, 221 Coventry Road, Benton, NH 03785.
Town of Bethlehem | Town Office, 2155 Main Street, Bethlehem, NH 03574.
Town of Bridgewater | Town Office, 297 Mayhew Turnpike, Bridgewater, NH 03222.
Town of Bristol | Town Office, 5 School Street, Bristol, NH 03222.
Town of Campton | Town Office, 12 Gearty Way, Campton, NH 03223.
Town of Canaan | Town Office, 1169 U.S. Route 4, Canaan, NH 03741.
Town of Dorchester | Town Office, 1021 NH Route 118, Dorchester, NH 03266.
Town of Ellsworth | Town Office, 3 Ellsworth Pond Road, Ellsworth, NH 03223.
Town of Franconia | Town Hall, 421 Main Street, Franconia, NH 03580.
Town of Grafton | Town Office, 7 Library Road, Grafton, NH 03240.
Town of Groton | Town Office, 754 North Groton Road, Groton, NH 03241.
Town of Hebron | Select Board Office, 7 School Street, Hebron, NH 03241.
Town of Holderness | Town Office, 1089 U.S. Route 3, Holderness, NH 03245.
Town of Lincoln | Town Hall, 148 Main Street, Lincoln, NH 03251.
Town of Orange | Town Office, 8 Town House Road, Orange, NH 03741.
Town of Orford | Town Office, 2529 Route 25A, Orford, NH 03777.
Town of Piermont | Selectmen's Office, 130 Route 10, Piermont, NH 03779.
Town of Plymouth | Town Office, 6 Post Office Square, Plymouth, NH 03264.
Town of Rumney | Town Office, 79 Depot Street, Rumney, NH 03266.
Town of Thornton | Town Office, 16 Merrill Access Road, Thornton, NH 03285.
Town of Warren | Selectmen's Office, 8 Water Street, Warren, NH 03279.
Town of Waterville Valley | Rust Municipal Building, 14 TAC Lane, Waterville Valley, NH 03215.
Town of Wentworth | Town Office, 7 Atwell Hill Road, Wentworth, NH 03282.
Town of Woodstock | Town Office, 165 Lost River Road, Woodstock, NH 03262.
Harney County, Oregon and Incorporated Areas
Docket No.: FEMA-B-2287
Burns Paiute Reservation | Burns Paiute Tribal Office, 100 Pasigo Street, Burns, OR 97720.
City of Burns | City Hall, 242 South Broadway Avenue, Burns, OR 97720.
City of Hines | City Hall, 101 East Barnes Avenue, Hines, OR 97738.
Unincorporated Areas of Harney County | Harney County Planning Department, 360 North Alvord Avenue, Burns, OR 97720.

[FR Doc. 2023-22690 Filed 10-12-23; 8:45 am]

BILLING CODE 9110-12-P